DEPARTMENT OF COMMERCE

International Trade Administration

[A-570-506]

Porcelain-on-Steel Cooking Ware From the People's Republic of China: Final Results of Fifth Sunset Review and Revocation of Order

AGENCY: Enforcement and Compliance, International Trade Administration, Department of Commerce.

SUMMARY: On July 1, 2021, the Department of Commerce (Commerce) initiated the fifth sunset review of the antidumping duty (AD) order on porcelain-on-steel cooking ware from the People's Republic of China (China). Because no domestic interested party responded to the sunset review notice of initiation by the application deadline, Commerce is revoking the AD order on porcelain-on-steel cooking ware from China.

DATES: Applicable August 11, 2021.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On December 2, 1986, Commerce issued the AD order on porcelain-on-steel cooking ware from China.¹ On August 11, 2016, Commerce published the most recent continuation of the AD order on porcelain-on-steel cooking ware from China.² On July 1, 2021, Commerce initiated the current sunset review of the Order pursuant to section 751(c) of the Tariff Act of 1930, as amended (the Act).³

¹ See Antidumping Duty Order; Porcelain-on-Steel Cooking Ware from the People's Republic of China, 51 FR 43414 (December 2, 1986) (Order).

² See Porcelain-on-Steel Cooking Ware from the People's Republic of China: Continuation of Antidumping Duty Order, 81 FR 53120 (August 11, 2016) (2016 Continuation Notice).

³ See Initiation of Five-Year (Sunset) Reviews, 86 FR 35070 (July 1, 2021).

We did not receive a notice to participate in this sunset review from any domestic interested party, pursuant to 19 CFR 351.218(d)(1)(i). As a result, in accordance with 19 CFR 351.218(d)(1)(iii)(A), Commerce has determined that no domestic interested party intends to participate in the sunset review. On July 21, 2021, Commerce notified the ITC in writing that we intend to revoke the AD order on porcelain-on-steel cooking ware from China, consistent with 19 CFR 351.218(d)(1)(iii)(B).⁴

⁴ See Commerce's Letter, “Sunset Reviews for July 1, 2021,” dated July 21, 2021.

Scope of the Order

The merchandise covered by the Order is porcelain-on-steel cooking ware, including tea kettles, which do not have self-contained electric heating elements. All of the foregoing are constructed of steel and are enameled or glazed with vitreous glasses. The merchandise is currently classifiable under the Harmonized Tariff Schedule of the United States (HTSUS) subheading 7323.94.00. The HTSUS subheading is provided for convenience and customs purposes. The written description of the scope remains dispositive.

Revocation

Pursuant to section 751(c)(3)(A) of the Act and 19 CFR 351.218(d)(1)(iii)(B)(3), if no domestic interested party responds to a notice of initiation, Commerce shall, within 90 days after the initiation of review, revoke the order. Because no domestic interested party filed a notice of intent to participate in this sunset review, we determine that no domestic interested party is participating in this sunset review. Therefore, we are revoking the AD order on porcelain-on-steel cooking ware from China.

Effective Date of Revocation

Pursuant to section 751(c)(3)(A) of the Act and 19 CFR 351.222(i)(2)(i), Commerce intends to instruct CBP to terminate the suspension of liquidation of the merchandise subject to this order entered, or withdrawn from the warehouse, on or after August 11, 2021, the fifth anniversary of the date of publication of the last continuation notice.⁵ Entries of subject merchandise prior to the effective date of revocation will continue to be subject to suspension of liquidation and AD deposit requirements. Commerce will conduct administrative reviews of subject merchandise entered prior to the effective date of revocation in response to appropriately filed requests for review.

⁵ See 2016 Continuation Notice.

Administrative Protective Order

This notice serves as the only reminder to parties subject to administrative protective order (APO) of their responsibility concerning the destruction of proprietary information disclosed under APO in accordance with 19 CFR 351.305(a). Timely notification of the return or destruction of APO materials, or conversion to judicial protective orders is hereby requested. Failure to comply with the regulations and terms of an APO is a violation which is subject to sanction.

Notifications to Interested Parties

We are issuing and publishing these final results in accordance with sections 751(c), and 777(i)(1) of the Act, and 19 CFR 351.218(d)(1)(iii)(B)(3) and 19CFR 351.222(i)(1)(1).

Dated: September 29, 2021.
Christian Marsh,
Acting Assistant Secretary for Enforcement and Compliance.

[FR Doc. 2021-22250 Filed 10-12-21; 8:45 am]

BILLING CODE 3510-DS-P